ENVIRONMENTAL PROTECTION AGENCY

40 CFR Part 52

[EPA-R10-OAR-2018-0001; FRL-9978-75—Region 10]

Air Plan Approval; Washington; Regional Haze Progress Report

AGENCY: Environmental Protection Agency (EPA).

ACTION: Proposed rule.

SUMMARY: The Environmental Protection Agency (EPA) is proposing to approve a revision to the regional haze State Implementation Plan (SIP), submitted by Washington on November 6, 2017. Washington submitted its Regional Haze 5-Year Progress Report (progress report or report) and a negative declaration stating that further revision of the existing regional haze implementation plan is not needed at this time. Washington submitted both the progress report and the negative declaration in the form of implementation plan revisions as required by federal regulations. The progress report addresses the federal Regional Haze Rule requirements under the Clean Air Act to submit a report describing progress in achieving reasonable progress goals established for regional haze and a determination of the adequacy of the existing plan addressing regional haze.

DATES: Comments must be received on or before July 2, 2018.

ADDRESSES: Submit your comments, identified by Docket ID No. EPA-R10-OAR-2018-0001 at https://www.regulations.gov. Follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e. on the web, cloud, or other file sharing system). For additional submission methods, the full EPA public comment policy, information about CBI or multimedia submissions, and general guidance on making effective comments, please visit https://www.epa.gov/dockets/commenting-epa-dockets.

FOR FURTHER INFORMATION CONTACT: Jeff Hunt, Air Planning Unit, Office of Air and Waste (OAW-150), Environmental Protection Agency—Region 10, 1200 Sixth Ave., Seattle, WA 98101; telephone number: (206) 553-0256, email address: hunt.jeff@epa.gov.

SUPPLEMENTARY INFORMATION: Throughout this document whenever “we,” “us,” or “our” is used, it is intended to refer to the EPA.

I. Background

Washington submitted its initial regional haze SIP to the EPA on December 22, 2010, and supplemental information on December 29, 2011. The EPA approved portions of the Washington regional haze SIP on December 6, 2012, and June 11, 2014.¹ In the same June 11, 2014, action, the EPA disapproved certain elements related to best available retrofit technology (BART), discussed in more detail in section III.A. below, and promulgated a Federal Implementation Plan (FIP) for the disapproved elements of the SIP. With the exception of the disapproved BART elements, the EPA approved all remaining portions of Washington's regional haze SIP, including: The identification of affected Class I Federal areas ² (Class I area or areas); the determination of baseline conditions, natural conditions, and uniform rate of progress (URP) for each Class I area; the emissions inventories; the sources of visibility impairment in Washington's Class I areas; the state's monitoring strategy; the state's consultation with other states and Federal Land Managers; the reasonable progress goals (RPGs); the long-term strategy; and the state's remaining BART determinations.

¹ See 77 FR 72742 and 79 FR 33438.

² Areas designated as mandatory Class I Federal areas consist of national parks exceeding 6,000 acres, wilderness areas and national memorial parks exceeding 5,000 acres, and all international parks that were in existence on August 7, 1977 (42 U.S.C. 7472(a)). Listed at 40 CFR part 81, subpart D.

Five years after submission of the initial regional haze plan, states are required to submit reports that evaluate progress towards the RPGs for each Class I area within the state and in each Class I area outside the state which may be affected by emissions from within the state. 40 CFR 51.308(g). States are also required to submit, at the same time as the progress report, a determination of the adequacy of the state's existing regional haze plan. 40 CFR 51.308(h). On November 6, 2017, the Washington State Department of Ecology (Ecology) submitted as a SIP revision a report on the progress made in the first implementation period towards the RPGs for Class I areas.

The Regional Haze Rule requires states to provide in the progress report an assessment of whether the current “implementation plan” is sufficient to enable the states to meet all established RPGs under 40 CFR 51.308(g). The term “implementation plan” is defined for purposes of the Regional Haze Rule to mean any SIP, FIP, or Tribal Implementation Plan. See 40 CFR 51.301. The EPA is, therefore, proposing to determine that the Agency may consider measures in any issued FIP as well as those in a state's regional haze plan in assessing the adequacy of the “existing implementation plan” under 40 R 51.308(g)(6) and (h). As discussed below, the EPA is proposing to approve Washington's progress report on the basis that it satisfies the requirements of 40 CFR 51.308. We also propose to find that Washington's long-term strategy and emission control measures in the existing regional haze implementation plan are sufficient to meet all established RPGs for 2018.

II. Context for Understanding Washington's Progress Report

To facilitate a better understanding of Washington's progress report as well as the EPA's evaluation of it, this section provides background on the regional haze program in Washington.

A. Framework for Measuring Progress

The EPA established a metric for determining visibility conditions at Class I areas referred to as the “deciview index,” measured in deciviews (dv), as defined in 40 CFR 51.301. The deciview index is calculated using monitoring data collected from the Interagency Monitoring of Protected Visual Environments (IMPROVE) network monitors. Washington has eight Class I areas within its borders: Alpine Lakes Wilderness Area, Glacier Peak Wilderness Area, Goat Rocks Wilderness Area, Mount Adams Wilderness Area, Mount Rainier National Park, North Cascades National Park, Olympic National Park, and Pasayten Wilderness Area. Monitoring data representing visibility conditions in Washington's eight Class I areas is based on the six IMPROVE monitors identified in Table 1. As shown in the table, the NOCA1 monitoring site represents two Class I areas, the WHPA1 site represents two other Class I areas, and the remaining four sites represent individual Class I areas.

Table 1—Washington IMPROVE Monitoring Sites and Represented Class I Areas
Site code | Class I area
OLYM1 | Olympic National Park.
NOCA1 | North Cascades National Park, Glacier Peak Wilderness.
PASA1 | Pasayten Wilderness.
SNPA1 | Alpine lakes Wilderness.
MORA1 | Mt. Rainier National Park.
WHPA1 | Goat Rocks Wilderness, Mt. Adams Wilderness.

Under the Regional Haze Rule, a state's initial regional haze SIP must establish two RPGs for each of its Class I areas: One for the 20 percent least impaired days and one for the 20 percent most impaired days. The RPGs must provide for an improvement in visibility on the 20 percent most impaired days and ensure no degradation in visibility on the 20 percent least impaired days, as compared to visibility conditions during the baseline period. In establishing the RPGs, a state must consider the uniform rate of visibility improvement from the baseline to natural conditions in 2064 and the emission reductions measures needed to achieve it. Washington set the RPGs for its eight Class I areas based on regional atmospheric air quality modeling conducted by the Western Regional Air Partnership (WRAP) using projected emission reductions in western states from federal and state control strategies expected to be in place before 2018.

As part of the WRAP coordination and joint modeling, Washington worked closely with other western states to ensure that control measures put in place to meet RPGs for Washington Class I areas were also sufficient to address Washington's impact on Class I areas in other states. The EPA, in our approval of Washington's 2010 regional haze SIP, stated that Washington's control measures coordinated through the WRAP would enable it to achieve the RPGs established for the mandatory Class I areas in Washington, as well as the RPGs established by other states for the Class I areas where Washington sources are reasonably anticipated to contribute to visibility impairment.³ The progress report provided an update using the Mt. Hood Wilderness Area in Oregon as an example. The coordinated WRAP projected emissions inventories and modeling, approved as part of the 2010 regional haze SIP, showed that in 2002 Washington contributed 33.5% of the nitrate and 21.6% of the sulfate on the worst days at Mount Hood Wilderness Area. However, by 2018, Washington's contribution on the worst days was projected to decrease to 25.9% and 17.5%, respectively. The EPA notes that the Mount Hood Wilderness Area is currently meeting the 2018 reasonable progress goals for best and worst days based on 2012-2016 data,⁴ further supporting Washington's view that coordination through the WRAP is an effective means of meeting reduction targets in neighboring western states.

³ 77 FR 76174, 76205; 79 FR 33438.

⁴ See the EPA's proposed approval of the Oregon regional haze progress report (83 FR 11927, March 19, 2018).

B. Data Sources for Washington's Progress Report

Washington relied on the WRAP technical data and analyses in a report titled “Western Regional Air Partnership Regional Haze Rule Reasonable Progress Summary Report” (WRAP Report), dated June 28, 2013, included as Appendix A of the progress report, in the docket for this action. The WRAP report was prepared for the 15 western state members to provide the technical basis for the first of their individual progress reports. Data is presented in this report on a regional, state, and Class I area-specific basis that characterize the difference between baseline conditions (2000-2004) and the first 5-year progress period (2005-2009). Washington also evaluated visibility conditions in its eight Class I areas based on the most recent 5-year data available at the time Washington developed the progress report (2010-2014).

III. The EPA's Evaluation of Washington's Progress Report

This section describes the contents of Washington's progress report and the EPA's evaluation of the report, as well as the EPA's evaluation of the determination of adequacy required by 40 CFR 51.308(h) and the requirement for state and Federal Land Manager coordination in 40 CFR 51.308(i).

A. Status of All Measures Included in the Regional Haze Implementation Plan

In its progress report, Washington provided a description of the control measures that the state relied on to implement the regional haze program and make projections of expected emissions reductions from the 2002 base year to 2018. Washington's regional haze SIP noted that many of the control measures were already-adopted federal and state provisions such as: The Heavy Duty Diesel (2007) Engine Standard, Tier 2 Tailpipe Standards, Large Spark Ignition and Recreational Vehicle Rule, Non-road Diesel Rule, low sulfur fuel requirements for gasoline engines, on-road diesel engines, off-road diesel engines, and locomotives, as well as Washington's decision to adopt the California low emission vehicle requirements. Other control measures were originally adopted to reduce ozone or particulate matter (PM) with the co-benefit of reducing visibility impairment, such as the smoke management and agriculture burning programs. Because these other state and federal control measures with the expected co-benefit of reducing visibility impairment were generally already in place, the most significant focus of Washington's initial regional haze SIP was implementation of BART, as summarized below.

1. British Petroleum Cherry Point Refinery

The British Petroleum (BP) Cherry Point Refinery is located near Ferndale, Washington. Washington issued BART Order 7836, with emissions limitations for nitrogen oxides (NOX) and sulfur oxides (SOX) from process heaters, as well as limitations on total sulfur content of the refinery fuel gas used in all process heaters and boilers. In the progress report Washington noted that all emission reductions required by the BART order have been implemented. On February 16, 2016, the EPA approved the most recent modification to the BART order which coordinated emission limitations with more recent minor source new source review approvals, and to accommodate future equipment replacement projects (81 FR 7710).

2. Intalco Aluminum Corporation

The Intalco Aluminum Corporation (Intalco) is a primary aluminum smelter also located at Cherry Point near Ferndale, Washington. Washington issued BART Order 7837, Revision 1, to Intalco on November 15, 2010. The revised order imposed Washington's determined BART control technology, pollution prevention measures, emission limits, compliance dates, monitoring, and recordkeeping requirements. On June 11, 2014, the EPA finalized a limited approval and limited disapproval of Washington's sulfur dioxide (SO2) BART determination for Intalco.⁵ Concurrent with the limited disapproval, the EPA promulgated a FIP imposing a SO2 “Better than BART” alternative on Intalco.⁶ This alternative, as requested by Intalco in a letter dated June 22, 2012, consisted of a 5,240 tons per year annual SO2 emission limit on the potlines. The progress report noted that Intalco has complied with the requirements of the BART order, the FIP, and all other regulatory requirements contained in the plant's air operating permit. The progress report also showed that while emissions have increased due to increased aluminum production, levels remain below the SO2 emission limit.

⁵ See 79 FR 33438, 33452; See also proposed rulemaking, 77 FR 76174, at pages 76188-76192.

⁶ See 40 CFR 52.2500.

3. Tesoro Refining and Marketing Company

The Tesoro Refining and Marketing Company (Tesoro) operates a refinery near Anacortes, Washington, that processes crude oil into refined oil products, including ultra-low sulfur diesel oil, jet fuel, #6 fuel oil, and gasoline. The primary emission units of concern were the process heaters, boiler, and flares. On July 7, 2010, Ecology issued BART Order 7838 requiring specific fuel gas sulfur content limits, a wet scrubber system on the catalyst regeneration/carbon monoxide boiler exhaust, and NOX limits on two process heaters. The EPA approved portions of BART Order 7838 but disapproved the NOX BART determination for five BART emission units and promulgated a FIP imposing a “Better than BART” alternative. The federal “Better than BART” alternative was based on Tesoro's request to the EPA on November 5, 2012. In the request, Tesoro identified seven non-BART units at the facility that achieve substantially more SO2 emission reductions compared to the NOX emission reductions that would be achieved from BART on the five BART subject units. Tesoro requested SO2 emission limitations on those non-BART units as an alternative to emission limits for NOX on the BART subject units. The EPA determined that the visibility improvement would be greater under the alternative than under BART, and promulgated the federal “Better than BART” alternative under the FIP.⁷ The progress report noted that Tesoro continues to demonstrate compliance with the requirements of the BART order, the FIP, and all other regulatory requirements contained in the plant's air operating permit. The progress report also showed that SO2 emissions have declined significantly over the past ten years, while NOX and PM emissions have remained stable.

⁷ See 40 CFR 52.2501. See also proposed rulemaking 77 FR 76174, at pages 76196-76198.

4. Alcoa Wenatchee Works

In our June 11, 2014, final action, the EPA disapproved Washington's BART exemption for the Alcoa Wenatchee Works located in Malaga, Washington (Wenatchee Works), and promulgated a federal BART FIP for all emission units subject to BART at the facility.⁸ After evaluating various control technologies, we determined that the costs of compliance and the anticipated visibility benefits did not warrant new controls at the facility. We therefore determined that the existing controls at the facility were BART and adjusted some emission limits in the facility's air operating permit to reflect the level of emission reductions achievable by those existing controls.⁹ The progress report noted that Alcoa decided to curtail operations at this plant at the end of 2015, until market prices of aluminum recover sufficiently to restart the plant.

⁸ See 40 CFR 52.2502.

⁹ See 79 FR 33438, page 33440.

5. Lafarge North America

Lafarge North America (Lafarge) is located in Seattle, Washington and produces Portland cement by the wet kiln process. The largest BART sources of concern were the rotary kiln and the clinker cooler. The other BART units included raw material handling, finished product storage bins, finish mill conveying system, bagging system, and bulk loading/unloading system baghouses, with a total of just 480 tons per year of PM emissions. Washington issued, and the EPA approved, BART Order 7841 to implement emission controls for NOX and SOX. The progress report noted that prior to the compliance date in the BART order, the company ceased cement production at this facility. The plant must meet all requirements, including NOX and SOX emission controls identified in the BART order, prior to restarting the plant.

6. TransAlta Centralia Power Plant

In a final action on December 6, 2012, the EPA approved Washington's BART determination for the TransAlta Centralia Generation LLC coal-fired power plant in Centralia, Washington (TransAlta).¹⁰ The BART determination and compliance order established a NOX emission limit of 0.21 pounds per million British Thermal Units, and among other things, required selective noncatalytic reduction (SNCR) to be installed by January 1, 2013. The BART order also required one coal fired unit to permanently cease burning coal no later than December 31, 2020, and the second coal fired unit to permanently cease burning coal no later than December 31, 2025, unless Washington determines that state or federal law requires that selective catalytic reduction must be installed on either unit.

¹⁰ 77 FR 72742, 72744.

The progress report noted that TransAlta installed SNCR, along with other associated controls, and demonstrated compliance with the initial emission limitation in the order. However, the progress report noted that the plant is also required to determine if it could reliably comply with a lower emission limitation. At the time of the progress report submission, Washington explained that this work had not been completed due to a number of factors, primarily inconsistent plant operation and difficulties with the in situ ammonia slip monitors. With respect to inconsistent plan operation, Washington noted that plant operation has reduced to 50%-60% of full annual capacity compared to greater than 80% when the BART order was issued, with NOX emissions in 2015 approximately half the amount emitted in 2010.

7. Weyerhaeuser Corporation, Longview

Weyerhaeuser Corporation (Weyerhaeuser) operates a Kraft pulp and paper mill in Longview, Washington. The facility has three emission units subject to BART: No. 10 recovery furnace; No. 10 smelt dissolver tank; and No. 11 power boiler. On July 7, 2010, Washington issued BART Order 7840. As described in the EPA's proposed approval of BART for this facility, Washington determined that the existing controls, techniques, and emission limits, already in place to meet prior new source review and national emission standards for hazardous air pollutants (NESHAP) requirements, constituted BART for NOX, SO2, and PM.¹¹ Specifically, these controls were an electrostatic precipitator and a staged combustion system for the recovery furnace and a high efficiency wet scrubber for the smelt dissolver tank. The No. 11 power boiler controls were: (1) A multiclone to remove large particulate, (2) dry trona injection to remove SO2, (3) a dry electrostatic precipitator for additional particulate control, and (4) good combustion practices for NOX emission control. The progress report noted that Weyerhauser continues to comply with the BART order.

¹¹ 77 FR 76174, at page 76201.

8. Port Townsend Paper Company

Port Townsend Paper Company operates a kraft pulp and paper mill in Port Townsend, Washington that manufactures kraft pulp, kraft papers, and lightweight liner board. The four BART eligible emission units identified in the 2010 regional haze SIP were the recovery furnace, smelt dissolving tank, No. 10 power boiler, and lime kiln. On October 20, 2010, Washington issued Order 7839, Revision 1, which established emission limits for the existing controls at the facility as BART. The controls under the BART order are an electrostatic precipitator to control PM from the recovery furnace, a wet scrubber to control PM and SO2 from the smelt dissolving tank, a multiclone and wet scrubber to control PM emissions from the No. 10 power boiler, and a Venturi wet scrubber to control PM and SO2 from the lime kiln. The progress report noted that the facility continues to comply with the BART order.

B. Summary of Visibility Conditions

In the progress report, Washington documented the differences between the visibility conditions during the baseline period (2000-2004) and the most current five year averaging period available at the time Washington developed the progress report (2010-2014).¹² Washington demonstrated that all Class I areas experienced improvements in visibility for the 20% most and least impaired days between the baseline (2000-2004) and current (2010-2014) visibility periods, meeting all the 2018 reasonable progress goals established in the regional haze SIP.

¹² Additional in-depth analysis for the 2005-2009 progress period conducted by the WRAP was also included as an appendix to the progress report.

Table 2—Visibility Conditions on the 20% Most and Least Impaired Days
Monitor | Class I area | 20% Most impaired days: 2000-04 Baseline (dv) | 20% Most impaired days: 2010-14 Current period (dv) | 20% Most impaired days: 2018 RPGs (dv) | 20% Least impaired days: 2000-04 Baseline (dv) | 20% Least impaired days: 2010-14 Current period (dv) | 20% Least impaired days: 2018 RPGs (dv)
OLYM1 | Olympic Nat'l Park | 16.7 | 13.8 | 16.4 | 6.0 | 3.7 | 6.0
NOCA1 | North Cascades National Park, Glacier Peak Wilderness | 16.0 | 13.0 | 15.6 | 3.4 | 2.7 | 3.4
SNPA1 | Alpine Lakes Wilderness | 17.8 | 15.6 | 16.3 | 5.5 | 3.4 | 5.5
MORA1 | Mount Rainier National Park | 18.2 | 15.2 | 16.7 | 5.5 | 3.9 | 5.5
WHPA1 | Goat Rocks Wilderness, and Mount Adams Wilderness | 12.8 | 11.8 | 11.8 | 1.7 | 0.9 | 1.7
PASA1 | Pasayten Wilderness | 15.2 | 13.1 | 15.1 | 2.7 | 1.8 | 2.7

Washington's progress report included an analysis of progress and impediments to progress. With respect to impediments to progress, Washington cited wildfire smoke originating in the state or transported from outside the state, offshore and ocean-going vessel emissions, mobile source emissions (on-road and non-road sources under federal emission control), and international emissions as factors largely beyond state control that can interfere with progress toward improved visibility in Class I areas. Further detail on many of these source categories is included in the emissions inventory discussion below.

The progress report also contained a review of Washington's visibility monitoring strategy, concluding that the IMPROVE network continues to comply with the monitoring requirements in the Regional Haze Rule. Washington will continue to rely on the IMPROVE network to collect and analyze the visibility data and suggested additional sites for consideration should additional federal or state funding become available. These proposed sites include the southwest portion of Olympic National Park, and Stevens Pass or Stehekin to better reflect conditions at Glacier Peak Wilderness.

C. Summary of Emissions Reductions

The Washington progress report also included a summary of the emissions reductions achieved throughout the state from the control measures discussed above. The progress report included the 2002 WRAP inventory used for baseline condition modeling, Ecology's periodic comprehensive inventory submitted to the EPA for the national emission inventories for the years 2005 and 2011, and the WRAP's projected emissions inventory for 2018. The progress report highlighted significant differences between the inventories due to methodology changes over the years. First, mobile source emission estimates are not directly comparable because they are based on different emissions models. Starting in 2007, the EPA required the use of the MOVES model for mobile source emissions modeling. The progress report noted that the model transition resulted in significant changes, especially for NOX emissions when comparing prior year estimates and projections based on those estimates, including the WRAP's 2018 projections calculated with Mobile 6.2. Second, the WRAP did not estimate direct PM2.5 from mobile sources, only dust from road surfaces, representing a large difference between the WRAP inventories and Ecology's 2005 and 2011 inventories. Third, the WRAP emission inventories did not separately report emissions from locomotives or marine vessels. These emissions are included in the mobile source segment. Lastly, the progress report noted that Washington recently updated its inventory to reflect revised emission factors for some area source categories and fires, compared to what was used by the WRAP. Factoring in these differences in the emissions inventory methodology, Washington concluded that emissions have declined for most source categories.

Table 3—Sulfur Oxides Emissions by Category
Category | WRAP 2002 | 2005 | 2011 | WRAP 2018
Stationary sources | 52,885 | 23,367 | 13,832 | 37,444
Area sources | 7,311 | 1,562 | 1,472 | 8,667
Wildfires | 1,641 | 1,563 | 348 | 1,641
Anthropogenic fires | 1,411 |  |  | 1,043
Mobile sources | 19,436 | 7,505 | 1,059 | 941
Locomotives |  | 1,546 | 95 |
Marine vessels |  | 15,774 | 11,529 |
Total | 82,684 | 51,317 | 28,335 | 49,736

Table 4—Nitrogen Oxides Emissions by Category
Category | WRAP 2002 | 2005 | 2011 | WRAP 2018
Stationary sources | 43,355 | 43,386 | 26,565 | 49,456
Area sources | 17,587 | 8,581 | 8,599 | 22,746
Wildfires | 5,997 | 5,714 | 679 | 5,997
Anthropogenic fires | 6,821 |  |  | 4,971
Mobile sources | 286,701 | 198,168 | 202,436 | 102,440
Locomotives |  | 18,973 | 15,026 |
Marine vessels |  | 29,142 | 20,486 |
Biogenic | 17,923 |  |  | 17,923
Total | 378,384 | 303,964 | 273,791 | 203,533

Table 5—Fine Particle Emissions by Category
Category | WRAP 2002 | 2005 | 2011 | WRAP 2018
Stationary sources | 2,257 | 5,773 | 3,958 | 2,625
Area sources | 12,708 | 39,822 | 55,060 | 17,234
Wildfires | 1,139 | 22,196 | 3,706 | 1,139
Anthropogenic fires | 3,869 |  |  | 2,691
Mobile sources | 2,819 | 6,944 | 8,757 | 2,910
Locomotives |  | 583 | 428 |
Marine vessels |  | 1,440 | 1,021 |
Fugitive and windblown dust | 18,358 |  |  | 22,767
Total | 41,150 | 76,758 | 72,930 | 49,366

In its progress report, Washington concluded that the state is making adequate progress in improving visibility as a result of control measures in the regional haze implementation plan. The state also identified more recent federal and international control measures not included in 2018 emission projections. These measures include the International Maritime Organization NOX and fuel sulfur requirements, the more stringent Emission Control Area (ECA) requirements for the United States and Canadian west coasts, updated federal Maximum Achievable Control Technology (MACT) standards, and more stringent federal mobile source standards promulgated since Washington's submission of the original regional haze SIP.

D. Determination of Adequacy (40 CFR 51.308(h))

In accordance with 40 CFR 51.308(h)(1), if the state determines that the existing implementation plan requires no further substantive revision at this time in order to achieve established goals for visibility improvement and emissions reductions, the state must provide to the EPA a negative declaration that further revision of the existing implementation plan is not needed at this time. Within the progress report, Washington provided a negative declaration stating that further revision of the existing implementation plan is not needed. The basis for the state's negative declaration is the finding that visibility on the 20% most and least impaired days has improved, and Washington has attained the 2018 RPGs at all Washington IMPROVE monitors. Accordingly, the EPA proposes to find that Washington adequately addressed the requirements in 40 CFR 51.308(h) in its determination that the existing Washington regional haze implementation plan requires no substantive revisions at this time to achieve the established RPGs for Class I areas.

E. Consultation With Federal Land Managers (40 CFR 51.308(i))

In accordance with 40 CFR 51.308(i), the state provided the Federal Land Managers with an opportunity for consultation at least 60 days prior to holding any public hearings on an implementation plan (or plan revision). The state also included a description of how it addressed the comments provided by the Federal Land Managers, presented in Appendix E of the progress report. The EPA proposes to find that Washington has addressed the requirements in 40 CFR 51.308(i).

IV. The EPA's Proposed Action

The EPA proposes to approve the Regional Haze 5-Year Progress Report, submitted by Washington to the EPA on November 6, 2017, as meeting the applicable requirements of the Clean Air Act and Regional Haze Rule, as set forth in 40 CFR 51.308(g). The EPA proposes to find that the existing regional haze implementation plan is adequate to meet the state's visibility goals and requires no substantive revision at this time, as set forth in 40 CFR 51.308(h). We propose to find that Washington fulfilled the requirements in 40 CFR 51.308(i) regarding state coordination with Federal Land Managers.

V. Statutory and Executive Order Reviews

Under the Clean Air Act, the Administrator is required to approve a SIP submission that complies with the provisions of the Clean Air Act and applicable federal regulations.¹³ Thus, in reviewing SIP submissions, the EPA's role is to approve state choices, provided that they meet the criteria of the Clean Air Act. Accordingly, this proposed action merely approves state law as meeting federal requirements, and does not impose additional requirements beyond those imposed by state law. For that reason, this proposed action:

¹³ 42 U.S.C. 7410(k); 40 CFR 52.02(a).

• Is not a “significant regulatory action” subject to review by the Office of Management and Budget under Executive Orders 12866 (58 FR 51735, October 4, 1993) and 13563 (76 FR 3821, January 21, 2011);

• Is not an Executive Order 13771 (82 FR 9339, February 2, 2017) regulatory action because actions such as SIP approvals are exempted under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because this rulemaking does not involve technical standards; and

• Does not provide the EPA with the discretionary authority to address, as appropriate, disproportionate human health or environmental effects, using practicable and legally permissible methods, under Executive Order 12898 (59 FR 7629, February 16, 1994).

In addition, this proposed action does not apply on any Indian reservation land or in any other area where the EPA or an Indian tribe has demonstrated that a tribe has jurisdiction. In those areas of Indian country, the rule does not have tribal implications as specified by Executive Order 13175 (65 FR 67249, November 9, 2000). Nevertheless, the EPA offered consultation and coordination to Washington tribes in letters dated July, 6, 2017.

List of Subjects in 40 CFR Part 52

Environmental protection, Air pollution control, Incorporation by reference, Intergovernmental relations, Nitrogen dioxide, Particulate matter, Reporting and recordkeeping requirements, Sulfur oxides, Visibility, and Volatile organic compounds.

Authority: 42 U.S.C. 7401 et seq.

Dated: May 17, 2018.
Chris Hladick,
Regional Administrator, Region 10.

[FR Doc. 2018-11572 Filed 5-30-18; 8:45 am]

BILLING CODE 6560-50-P